DEPARTMENT OF THE INTERIOR

Bureau of Land Management

[18X.LLAZ921000.L14400000.BJ0000.LXSSA2250000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona, on the dates indicated. Surveys announced in this notice are necessary for the management of lands administered by the agencies indicated.

ADDRESSES: These plats will be available for inspection in the Arizona State Office, Bureau of Land Management, One North Central Avenue, Suite 800, Phoenix, Arizona, 85004-4427. Protests of the survey should be sent to the Arizona State Director at the above address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat, in one sheet, representing the dependent resurvey and subdivision of sections 15, 16 and 22, Township 21 North, Range 1 East, accepted September 13, 2018, and officially filed September 17, 2018, for Group 1181, Arizona.

This plat was prepared at the request of the United States Forest Service.

The plat, in one sheet, representing the subdivision of section 19, and a metes-and-bounds survey in section 19, partially surveyed Township 9 North, Range 3 East, accepted September 18, 2018, and officially filed September 20, 2018, for Group 1176, Arizona.

This plat was prepared at the request of the Bureau of Land Management.

The plat, in one sheet, representing the dependent resurvey and subdivision of section 4, Township 22 North, Range 1 West, accepted September 13, 2018, and officially filed September 17, 2018, for Group 1181, Arizona.

This plat was prepared at the request of the United States Forest Service.

The plat, in one sheet, representing the dependent resurvey and subdivision of sections 28 and 33, Township 13 North, Range 4 West, accepted July 26, 2018, and officially filed July 30, 2018, for Group 1182, Arizona.

This plat was prepared at the request of the Bureau of Land Management.

The supplemental plat, in one sheet, showing the amended lotting in sections 13 and 14, Township 41 North, Range 7 West, accepted July 26, 2018, and officially filed July 30, 2018, for Group 9113, Arizona.

This plat was prepared at the request of the Bureau of Land Management.

The plat, in one sheet, representing the dependent resurvey, survey and metes-and-bounds surveys in certain sections, partially surveyed Township 3 North, Range 8 West, accepted September 13, 2018, and officially filed September 17, 2018, for Group 1160, Arizona.

This plat was prepared at the request of the Central Arizona Project.

The plat, in three sheets, representing the dependent resurvey, subdivision of section 22 and metes-and-bounds surveys, Township 3 North, Range 9 West, accepted September 13, 2018, and officially filed September 17, 2018, for Group 1160, Arizona.

This plat was prepared at the request of the Central Arizona Project.

The plat, in two sheets, representing the dependent resurvey, metes-and-bounds surveys and subdivision of section 4, Townships 3 and 4 North, Range 18 West, accepted July 26, 2018, and officially filed July 30, 2018, for Group 1174, Arizona.

This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2018-20945 Filed 9-25-18; 8:45 am]

BILLING CODE 4310-32-P